NUCLEAR REGULATORY COMMISSION

10 CFR Part 72

[NRC-2016-0137]

RIN 3150-AJ77

List of Approved Spent Fuel Storage Casks: NAC International MAGNASTOR® Cask System; Certificate of Compliance No. 1031, Amendment No. 6

AGENCY: Nuclear Regulatory Commission.

ACTION: Direct final rule; confirmation of effective date.

SUMMARY: The U.S. Nuclear Regulatory Commission (NRC) is confirming the effective date of December 21, 2016, for the direct final rule that was published in the Federal Register on October 7, 2016. The direct final rule amended the NRC's spent fuel storage regulations by revising the “List of approved spent fuel storage casks” to include Amendment No. 6 to Certificate of Compliance (CoC) No. 1031 for the NAC International, MAGNASTOR® Cask System.

DATES: Effective Date: The effective date of December 21, 2016, for the direct final rule published October 7, 2016 (81 FR 69659), is confirmed.

ADDRESSES: Please refer to Docket ID NRC-2016-0137 when contacting the NRC about the availability of information for this action. You may obtain publicly-available information related to this action by any of the following methods:

• Federal Rulemaking Web site: Go to http://www.regulations.gov and search for Docket ID NRC-2016-0137. Address questions about NRC dockets to Carol Gallagher; telephone: 301-415-3463; email: Carol.Gallagher@nrc.gov. For technical questions, contact the individual listed in the FOR FURTHER INFORMATION CONTACT section of this document.

• NRC's Agencywide Documents Access and Management System (ADAMS):

You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Keith McDaniel, Office of Nuclear Material Safety and Safeguards, U.S. Nuclear Regulatory Commission, Washington, DC 20555-0001; telephone: 301-415-5252; email: Keith.McDaniel@nrc.gov.

SUPPLEMENTARY INFORMATION: On October 7, 2016 (81 FR 69659), the NRC published a direct final rule amending § 72.214 of title 10 of the Code of Federal Regulations by revising the “List of approved spent fuel storage casks” to include Amendment No. 6 to CoC No. 1031 for the NAC International, MAGNASTOR® Cask System. Amendment No. 6 revises NAC MAGNASTOR technical specifications (TSs) to align with the NAC Multi-Purpose Canister (MPC) and NAC Universal MPC System TSs. The CoC No. 1031 TSs require that a program be established and maintained for loading, unloading, and preparing fuel for storage without any indication of duration for the program. Amendment No. 6 limits maintenance of this program until all spent fuel is removed from the spent fuel pool and transport operations are completed. Related training and radiation protection program requirements are modified accordingly. Additionally, Amendment No. 6 incorporates the change to Limiting Condition for Operation 3.1.1 previously approved by the NRC in CoC No. 1031, Amendment No. 4.

In the direct final rule, the NRC stated that if no significant adverse comments were received, the direct final rule would become effective on December 21, 2016. As described more fully in the direct final rule, a significant adverse comment is a comment where the commenter explains why the rule would be inappropriate, including challenges to the rule's underlying premise or approach, or would be ineffective or unacceptable without a change.

The NRC received one comment on the direct final rule (ADAMS Accession No. ML16300A435). The comment stated “While the casks themselves are obviously important, nobody wants depleted uranium from leaking, the real problem is the long term effects of not finding proper storage for our spent nuclear fuel. Nuclear power is the power of the future, and yet we have no definitive solution as to where to store this stuff in bulk.” The NRC determined that this general comment about spent fuel storage is not within the scope of the direct final rule, which is limited to the specific changes contained in Amendment No. 6 to CoC No. 1031. The NRC also determined that this was not a significant adverse comment and did not make any changes to the direct final rule as a result of the public comment. Therefore, because no significant adverse comments were received, the direct final rule will become effective as scheduled. The final CoC, TSs, and Safety Evaluation Report can be viewed in ADAMS under Accession No. ML16319A064.

Dated at Rockville, Maryland, this 1rst day of December, 2016.
For the Nuclear Regulatory Commission.
Cindy Bladey,
Chief, Rules, Announcements, and Directives Branch, Division of Administrative Services, Office of Administration.

[FR Doc. 2016-29275 Filed 12-6-16; 8:45 am]

BILLING CODE 7590-01-P